DEPARTMENT OF HOUSING AND URBAN DEVELOPMENT

[Docket No. FR-4630-FA-11A]

Announcement of Funding Award—FY 2001 Healthy Homes Grant Program

AGENCY: Office of the Secretary—Office of Healthy Homes Demonstration and Education Grant Programs, HUD.

ACTION: Announcement of funding awards.

SUMMARY: In accordance with section 102(a)(4)(C) of the Department of Housing and Urban Development Reform Act of 1989, this announcement notifies the public of additional funding decisions made by the Department in a competition for funding under the Healthy Homes Demonstration and Education Program Notice of Funding Availability (NOFA). This announcement contains the name and address of the award recipient and the amount of award.

FOR FURTHER INFORMATION CONTACT: Ellen R. Taylor, Department of Housing and Urban Development, Office of Healthy Homes Initiative and Lead Hazard Control, Room P3206, 451 Seventh Street, SW., Washington, DC 20410-3000, telephone (202) 755-1785, ext. 116. Hearing- and speech-impaired persons may access the number above via TTY by calling the toll free Federal Information Relay Service at 1-800-877-8339.

SUPPLEMENTARY INFORMATION: The authority for Healthy Homes Demonstration and Education Program is sections 501 and 502 of the Housing and Urban Development Act of 1970 and the Departments of Veterans Affairs and Housing and Urban Development, and Independent Agencies Appropriations Act, 2001, Pub. L. 106-377, approved October 27, 2000.

These awards were the result of a competition announced in a Federal Register NOFA published on February 26, 2001 (66 FR 11893). The purpose of the competition was to award grant funding of approximately $5,500,000 for grants and cooperative agreements for the Healthy Homes Demonstration and Education Grant Programs. Applications were scored and selected on the basis of selection criteria contained in that NOFA.

The Catalog of Federal Domestic Assistance number for this program is 14.900.

A total of $5,823,389 was awarded to eight grantees. However, HUD was not able to successfully conclude negotiations with the Research Foundation of the State University of New York for an award of $700,000. This amount was awarded to the next highest scoring application. In accordance with section 102(a)(4)(C) of the Department of Housing and Urban Development Reform Act of 1989 (103 Stat. 1987, 42 U.S.C. 3545), the Department is publishing the names, addresses, and amounts of this awards as follows:

Awardee | Address | Amount of grant
The University of Tulsa, OK | 600 South College Avenue, Tulsa, OK 74104-3189 | $700,000.00
Public Health Dept. Seattle/King County, WA | 999 Third Avenue, Suite 1200, Seattle, WA 98104-4039 | 937,879.00
University of Alabama At Birmingham, AL | 1530 3rd Avenue, South Birmingham, AL | 850,000.00
Alameda County, CA | 2000 Embarcadero, Suite 300, Oakland, CA | 850,000.00
Medical & Health Research Association of New York City, NY | 40 Worth Street, Suite 720, New York, NY 10013-2988 | 500,000.00
City of Stamford, CT | 888 Washington Boulevard, Stamford, CT 06904 | 850,000.00
Alaska Housing Finance Corporation, AK | P.O. Box 101020, Anchorage, AK 99510-1020 | 700,000.00
University of Maryland/Baltimore, MD | 655 West Lombard Street, Room 645D, Baltimore, MD 21201 | 435,510.00

Dated: November 4, 2003.
Joseph F. Smith,
Deputy Director, Office of Healthy Homes and Lead Hazard Control.

[FR Doc. 03-30411 Filed 12-8-03; 8:45 am]

BILLING CODE 4210-70-P